DEPARTMENT OF COMMERCE

National Oceanic and Atmospheric Administration

RIN 0648-XA454

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Scientific and Statistical Committee on June 14-15, 2011 to consider actions affecting New England fisheries in the exclusive economic zone (EEZ). Recommendations from this group will be brought to the full Council for formal consideration and action, if appropriate.

DATES: This meeting will be held on Tuesday, June 14 at 10 a.m. and Wednesday, June 15, 2011 at 8:30 a.m.

ADDRESSES: The meeting will be held at the Eastland Park Hotel, 157 High Street, Portland, ME 04101; telephone: (207) 775-5411; fax: (207) 775-1066.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION:

Tuesday, June 14, 2011—Wednesday, June 15, 2011

The Scientific and Statistical Committee (SSC) will receive an update from the Groundfish Plan Development Team (PDT) on the process for setting Acceptable Biological Catch (ABC) for all groundfish stocks for the period 2012-14. The PDT will provide the SSC with preliminary information comparing past survey trends to stock size. In addition, the PDT will describe other analyses that are planned to examine the reliability of stock projections. The SSC may provide guidance about any further work on these issues.

Additionally, the SSC will review analyses provided by the Skate PDT for the purpose of recommending an ABC for the skate fishery for fishing years 2012-2013. The SSC's recommendation will be discussed at the June 21-23 Council meeting in Portland, ME.

On Wednesday, June 15, 2011, the SSC will continue its review of the analyses provided by the Skate PDT and recommend an ABC for the skate fishery.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard, Executive Director, at (978) 465-0492, at least 5 days prior to the meeting date.

Authority: 16 U.S.C. 1801 et seq.

Dated: May 20, 2011.
Tracey L. Thompson,
Acting Director, Office of Sustainable Fisheries, National Marine Fisheries Service.

[FR Doc. 2011-12925 Filed 5-24-11; 8:45 am]

BILLING CODE 3510-22-P